DEPARTMENT OF TRANSPORTATION

Surface Transportation Board

Rail Depreciation Studies

AGENCY: Surface Transportation Board, DOT.

ACTION: Notice of OMB Approval of Information Collection.

SUMMARY: Pursuant to the Paperwork Reduction Act, 44 U.S.C. 3501-3519 (PRA) and Office of Management and Budget (OMB) regulations at 5 CFR 1320.10, the Surface Transportation Board has obtained OMB approval for its information collection, Rail Depreciation Studies. See 78 FR 18676 (Mar. 27, 2013).

This collection, codified at 49 CFR part 1201, Section 4-2(b), has been assigned OMB Control No. 2140-0028. Unless renewed, OMB approval expires on August 31, 2016. The display of a currently valid OMB control number for this collection is required by law. Under the PRA and 5 CFR 1320.8, an agency may not conduct or sponsor, and a person is not required to respond to, a collection of information unless the collection displays a currently valid OMB control number.

Jeffrey Herzig,
Clearance Clerk.

[FR Doc. 2013-28615 Filed 11-27-13; 8:45 am]

BILLING CODE 4915-01-P